DEPARTMENT OF THE TREASURY

Submission for OMB Review; Comment Request

August 14, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 19, 2002 to be assured of consideration.

Internal Revenue Service

OMB Number: 1545-1411.

Form Number: IRS Forms 8843.

Type of Review: Extension.

Title: Statement for Exempt Individuals and Individuals With a Medical Condition.

Description: Form 8843 is used by an alien individual to explain the basis of the individual's claim that he or she is able to exclude days of presence in the U.S. because the individual is a teacher/trainee or student; professional athlete; or has a medical condition or problem.

Respondents: Individuals or households.

Estimated Number of Respondents/Recordkeepers: 150,000.

Estimated Burden Hours Per Respondent/Recordkeeper:

[In minutes]
| Form 8843 parts I & II | Form 8843 parts I & III | Form 8843 parts I & IV | Form 8843 parts I & V
Recordkeeping | 13 | 13 | 13 | 13
Learning about the law or the form | 7 | 6 | 6 | 6
Preparing the form | 30 | 33 | 25 | 29
Copying, assembling, and sending the form to the IRS | 16 | 16 | 16 | 16

Frequency of Response: Annually.

Estimated Total Reporting/Recordkeeping Burden: 174,345 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports Management Officer.

[FR Doc. 02-21165 Filed 8-19-02; 8:45 am]

BILLING CODE 4830-01-P